FEDERAL COMMUNICATIONS COMMISSION

47 CFR Part 95

[GN Docket No. 12-354; FCC 13-144]

Commission Seeks Comment on Licensing Models and Technical Requirements in the 3550-3650 MHz Band; Correction

AGENCY: Federal Communications Commission.

ACTION: Proposed rule; correction.

SUMMARY: This document corrects a document published in the Federal Register on December 4, 2013. This correction notes that the document incorrectly referred to itself as a “proposed rule” or “notice of proposed rulemaking” rather than a “document.” In addition, the reply comment date for the document is December 20, 2013, and not March 20, 2013.

DATES: The comment due date for the proposed rule published December 4, 2013, at 78 FR 72851, remains December 5, 2013. Reply comments are due December 20, 2013.

FOR FURTHER INFORMATION CONTACT: Paul Powell, Attorney Advisor, Wireless Bureau—Mobility Division at (202) 418-1613 or Paul.Powell@fcc.gov.

SUPPLEMENTARY INFORMATION:

Correction

In FR Doc. 2013-28254, in the issue of December 4, 2013, at 78 FR 72851, make the following corrections:

1. On page 72851, in the SUMMARY section, remove “notice of proposed rulemaking” and add in its place “document.”

2. On page 72851, in the DATES section, revise the reply comment date to read “December 20, 2013.”

3. On page 72852, in the left column in the SUPPLEMENTARY INFORMATION section, remove “, Notice of Proposed Rulemaking, 78 FR 1188 (January 8, 2012) (NPRM or 3.5 GHz NPRM)”.

4. On page 72852, in the center column, revise the subject heading “Synopsis of the Public Notice of Proposed Rulemaking” to read “Synopsis of the Document”.

5. Beginning on page 72852, in the third column, at the second paragraph of section I (Introduction) in the SUPPLEMENTARY INFORMATION section, revise the terms “proposed rule” and “notice of proposed rulemaking” to read “document”.

Dated: December 4, 2013.
Federal Communications Commission.
Gloria J. Miles,
Federal Register Liaison.

[FR Doc. 2013-29294 Filed 12-4-13; 4:15 pm]

BILLING CODE 6712-01-P